DEPARTMENT OF JUSTICE

Antitrust Division

Notice Pursuant to the National Cooperative Research and Production Act of 1993—National Association of Fire Equipment Distributors

Notice is hereby given that, on September 15, 2004, pursuant to Section 6(a) of the National Cooperative Research and Production Act of 1993, 15 U.S.C. 4301 et seq. (“the Act”), National Association of Fire Equipment Distributors (“NAFED”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: National Association of Fire Equipment Distributors, Chicago, IL. The nature and scope of NAFED's standards development activities are: certification testing for individuals involved in the sale, service, maintenance, training, and testing of fire extinguishers, fire extinguishing systems, and life safety equipment.

Dorothy B. Fountain,
Deputy Director of Operations, Antitrust Division.

[FR Doc. 04-22893 Filed 10-12-04; 8:45 am]

BILLING CODE 4410-11-M